DEPARTMENT OF TRANSPORTATION

Federal Highway Administration

Notice of Final Federal Agency Actions on Proposed Highway in California

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project, Colton Crossing Rail-to-Rail Grade Separation Project, City of Colton, in the County of San Bernardino, State of California. Those actions grant licenses, permits, and approvals for the project.

DATES: By this notice, FHWA is advising the public of final agency actions subject to 23 U.S.C. 139(l)(1). A claim seeking judicial review of the Federal agency actions on the highway project will be barred unless the claim is filed on or before December 27, 2011. If the Federal law that authorizes judicial review of a claim provides a time period of less than 180 days for filing such claim, then that shorter time period still applies.

FOR FURTHER INFORMATION CONTACT: Jake Waclaw, Senior Transportation Engineer, (202) 409-2441, or David Tedrick, Local Agency Programs Team Leader, South, (916) 498-5024, 650 Capitol Mall, Ste.4-100, Sacramento, California 95814-4708; or jacob.waclaw@dot.gov; david.tedrick@dot.gov.

SUPPLEMENTARY INFORMATION: Notice is hereby given that the FHWA has taken final agency actions subject to 23 U.S.C. 139(l)(1) by approving the following highway project in the State of California: The project proposes to grade-separate two existing mainline tracks, which run perpendicular to one another. The project involves two Burlington Northern Santa Fe Railway (BNSF) San Bernardino Subdivision mainline tracks running in a north-south direction crossing at-grade two Union Pacific Railroad (UPRR) Alhambra/Yuma Subdivision mainline tracks running in an east-west direction. The crossing of these sets of tracks is known as the “Colton Crossing”. The project would raise the east-west UPRR mainline by placing it on an elevated structure to span over the BNSF mainline tracks from Rancho Avenue on the west to Mount Vernon Avenue on the east. The grade-separated structure would contain two UPRR mainline tracks and a maintenance road. The actions by FHWA, and the laws under which such actions were taken, are described in the Final Environmental Assessment (FEA) and Finding of No Significant Impact (FONSI) for the project, both approved on May 26, 2011. The FEA can be viewed and downloaded from the project Web site at: http://www.coltoncrossing.com/signed_documents.htm.

This notice applies to all agency decisions as of the issuance date of this notice and all laws under which such actions were taken, including but not limited to:

1. The National Environmental Policy Act

2. Clean Water Act

3. Federal Endangered Species Act

4. Clean Air Act

5. The National Historic Preservation Act

(Catalog of Federal Domestic Assistance Program Number 20.205, Highway Planning and Construction. The regulations implementing Executive Order 12372 regarding intergovernmental consultation on Federal programs and activities apply to this program.)

Authority: 23 U.S.C. 139(l)(1)

Issued on: June 21, 2011.
Gary Sweeten,
Acting Director, Local Agency Programs, Federal Highway Administration, Sacramento, California.

[FR Doc. 2011-15977 Filed 6-24-11; 8:45 am]

BILLING CODE 4910-RY-P